DEPARTMENT OF HEALTH AND HUMAN SERVICES

Administration for Children and Families

Proposed Information Collection Activity; Comment Request

Proposed Projects

Title: Child Care Quarterly Case Record Report—ACF-801.

OMB No.: 0970-0167.

Description: Section 658K of the Child Care and Development Block Grant (CCDBG) Act (42 U.S.C. 9858, as amended by Public Law 113-186) requires that States and Territories submit monthly case-level data on the children and families receiving direct services under the Child Care and Development Fund (CCDF). The implementing regulations for the statutorily required reporting are at 45 CFR 98.70 and 98.71. Case-level reports, submitted quarterly or monthly (at grantee option), include monthly sample or full population case-level data. The data elements to be included in these reports are represented in the ACF-801. ACF uses disaggregate data to determine program and participant characteristics as well as costs and levels of child care services provided. This provides ACF with the information necessary to make reports to Congress, address national child care needs, offer technical assistance to grantees, meet performance measures, and conduct research.

Consistent with the recent reauthorization of the CCDBG statute, ACF requests extension of the ACF-801 including a number of changes and clarifications to the reporting requirements and instructions as set forth below.

• Homeless Status: Section 658K(a)(1)(B)(xi) of the CCDBG Act now requires States to report whether children receiving assistance under this subchapter are homeless children.

• Child Disability: ACF proposes to add a new data element indicating whether or not each child receiving services is a child with a disability, in part to track State implementation of priority for services requirements at section 658E(c)(3)(B) of the CCDBG Act (which includes children with special needs as defined by the State).

• Military Status: ACF proposes to add a new data element to the ACF-801 to determine the family's status related to military service.

• Family Zip Code and Provider Zip Code: ACF proposes to add zip codes to both the family and the provider records to identify the communities where CCDF families and providers are located, in part to support implementation of sections 658E(a)(2)(M) and 658E(a)(2)(Q) of the CCDBG Act that require States to address the supply and access to high-quality child care services for certain areas and populations.

• Quality of Child Care Providers: The existing ACF-801 allows States several ways of reporting information on the quality of each child's provider(s)—including: Quality Rating and Improvement System (QRIS) participation and rating, accreditation status, State pre-K standards, and other State-defined quality measure. To date, States have been required to report on at least one of the quality elements for a portion of the provider population. ACF is proposing that, effective with the October 2017 report, States must report quality information for every child care provider. States with a QRIS, at a minimum, would be required to report QRIS participation and rating for every provider. States without QRIS would be required to report quality information for every provider using one or more of the quality elements on the form. ACF is proposing to add a new option to indicate whether or not the provider is subject to Head Start or Early Head Start standards.

• Inspection Date: Section 658E(c)(2)(J) of the reauthorized CCDBG Act requires States to monitor both licensed and license-exempt CCDF providers. ACF proposes to add a data element effective October 2017 indicating, for each child care provider delivering services to a CCDF child, the date of the most recent inspection for compliance with health, safety, and fire standards (including licensing standards for licensed providers).

• Personally Identifiable Information: Section 658K(a)(1)(E) of the CCDBG Act now prohibits the ACF-801 report from containing personally identifiable information. As a result, ACF proposes to delete Social Security Numbers (SSNs) from the report. Note that the form will still require a unique identifying number, other than the SSN, that is assigned by the State for each family.

Respondents: States, the District of Columbia, and Territories including Puerto Rico, Guam, the Virgin Islands, American Samoa, and the Northern Mariana Islands.

Annual Burden Estimates
Instrument | Number of respondents | Number of responses per respondent | Average burden hours per response | Total burden hours
ACF-801 | 56 | 4 | 25 | 5,600

Estimated Total Annual Burden Hours: 5,600.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-10988 Filed 5-6-15; 8:45 am]

BILLING CODE 4184-01-P